DEPARTMENT OF THE INTERIOR

National Park Service

[NPS-AKR-GAAR-0512-10281; 9924-PYS]

National Park Service Alaska Region's Subsistence Resource Commission

AGENCY: National Park Service, Interior.

ACTION: Notice of open public meeting and teleconference for the National Park Service (NPS) Alaska Region's Subsistence Resource Commission (SRC) program.

SUMMARY: The Gates of the Arctic National Park SRC will meet to develop and continue work on NPS subsistence program recommendations and other related subsistence management issues. The NPS SRC program is authorized under Title VIII, Section 808 of the Alaska National Interest Lands Conservation Act, Public Law 96-487, to operate in accordance with the provisions of the Federal Advisory Committee Act. The Federal Advisory Committee Act (Pub. L. 92-463, 86 Stat. 770) requires that public notice of this meeting be announced in the Federal Register.

Public Availability of Comments: This teleconference meeting is open to the public and will have time allocated for public testimony. The public is welcome to present written or oral comments to the SRC. This meeting will be recorded and meeting minutes will be available upon request from the park superintendent for public inspection approximately six weeks after the meeting. Before including your address, telephone number, email address, or other personal identifying information in your comment, you should be aware that your entire comment—including your personal identifying information—may be made publicly available at any time. While you can ask us in your comment to withhold your personal identifying information from public review, we cannot guarantee that we will be able to do so.

Gates of the Arctic National Park SRC Meeting Date and Location: The Gates of the Arctic National Park SRC teleconference meeting will be held on Tuesday, June 19, 2012, from 1 p.m. to 4 p.m. or until business is completed at the Gates of the Arctic National Park and Preserve office, 4175 Geist Road, Fairbanks, AK 99709, telephone (907) 457-5752. Should a quorum not be available on June 19, 2012, alternate teleconference meeting dates have been scheduled for Thursday, June 21, 2012, and Tuesday, June 26, 2012, from 1 p.m. to 4 p.m. If the meeting dates and location are changed, a notice will be published in local newspapers and announced on local radio stations prior to the meeting date. SRC meeting locations and dates may need to be changed based on inclement weather or exceptional circumstances.

Teleconference Meeting Registration: Space for the teleconference meeting is limited, and you are encouraged to register early if you plan to participate via telephone. Teleconference meeting participants should contact Marcy Okada, Subsistence Manager, via email (Marcy_Okada@nps.gov) or by telephone at (907) 455-0639 between June 11-18, 2012, to receive a toll-free call-in telephone number and code.

FOR FURTHER INFORMATION CONTACT: Greg Dudgeon, Superintendent or Marcy Okada, Subsistence Manager at (907) 457-5752 or Clarence Summers, Subsistence Manager, NPS Alaska Regional Office, at (907) 644-3603. If you are interested in applying for Gates of the Arctic National Park SRC membership contact the Superintendent at 4175 Geist Road, Fairbanks, AK 99709, or visit the park Web site at: http://www.nps.gov/gaar/contacts.htm.

Proposed SRC Meeting Agenda

The proposed meeting agenda for each meeting includes the following:

1. Call to Order—Confirm Quorum

2. Welcome and Introductions

3. Administrative Announcements

4. Old Business

a. SRC Hunting Plan Recommendations (HP 10-01)

b. NPS Subsistence Collections Environmental Assessment Update

5. New Business

6. Public and other Agency Comments

7. Select Time and Location for Next Meeting

8. Adjourn Meeting

Debora R. Cooper,
Associate Regional Director, Resources and Subsistence, Alaska Region.

[FR Doc. 2012-12400 Filed 5-21-12; 8:45 am]

BILLING CODE 4312-HK-P